DEPARTMENT OF JUSTICE

National Institute of Justice

[OJP (NIJ)-1302]

Eleventh Meeting of the National Commission on the Future of DNA Evidence Held in Conjunction With a DNA Conference Co-Hosted by the Kennedy School of Government; Notice of Meeting

AGENCY: Office of Justice Programs, National Institute of Justice, Justice.

ACTION: Notice of meeting.

SUMMARY: Announcement of the eleventh meeting of the National Commission on the Future of DNA Evidence held in conjunction with a DNA Conference co-hosted with the Kennedy School of Government.

DATES: The eleventh meeting of the National Commission on the Future of DNA Evidence will take place on Sunday, November 19, 2000, from 12:00 p.m. until 5:00 p.m., ET. The Commission meeting will be followed by a three-day conference on “DNA and the Criminal Justice System” co-hosted by the Center for Business and Government at John F. Kennedy School of Government and the Department of Justice (please see “Supplementary Information” for details).

ADDRESSES: The meeting will take place at the John F. Kennedy School of Government, Harvard University, Malkin Penthouse, 79 John F. Kennedy Street, Cambridge, Massachusetts. Phone: (617) 495-1446.

FOR FURTHER INFORMATION CONTACT: For further information about the Commission Meeting, contact Christopher H. Asplen, AUSA, Executive Director; Phone (202) 616-8123. To register for the Conference, please call Robin Wilson of the National Institute of Justice at (202) 307-5847. Reservations for the Conference must be made by October 27, 2000.

SUPPLEMENTARY INFORMATION:

Authority

This action is authorized under the Omnibus Crime Control and Safe Streets Act of 1968, 201-03, as amended, 42 U.S.C. 3721-23 (1994).

Commission Background

The purpose of the National Commission on the Future of DNA Evidence is to provide the Attorney General with recommendations on the use of current and future DNA methods, applications and technologies in the operation of the criminal justice system, from the crime scene to the courtroom. Over the course of its Charter, the Commission will review critical policy issues regarding DNA evidence and provide recommended courses of action to improve its use as a tool of investigation and adjudication in criminal cases.

Commission Meeting

The National Commission on the Future of DNA Evidence, established pursuant to Section 3(2)A of the Federal Advisory Committee Act (FACA), 5 U.S.C. App. 2, will meet on Sunday, November 19, 2000, from 12:00 p.m. until 5:00 p.m., ET., at the John F. Kennedy School of Government, Harvard University, Cambridge, Massachusetts, to carry out its advisory functions under Sections 201-202 of the Omnibus Crime Control and Safe Streets Act of 1968, as amended. This meeting will be open to the public.

DNA Conference

The Commission meeting will be followed by a conference on “DNA and the Criminal Justice System” co-hosted by the Center for Business and Government at John F. Kennedy School of Government and the Department of Justice. The conference will be held on:

1. Sunday, November 19, 2000, from 4:00 p.m. to 7:00 p.m., ET,

2. Monday, November 20, 2000, from 8:30 a.m. to 7:00 p.m., ET, and

3. Tuesday, November 21, 2000, from 8:30 a.m. to 3:00 p.m., ET.

Because space is limited for the conference, a firm registration deadline has been set for October 27, 2000. If you would like to register for the conference, please contact Robin Wilson at (202) 307-5847. A registration fee is required.

Dated: October 4, 2000.
Doug Horner,
Acting Assistant Director, National Institute of Justice.

[FR Doc. 00-26149 Filed 10-11-00; 8:45 am]

BILLING CODE 4410-18-P